ENVIRONMENTAL PROTECTION AGENCY

[EPA-HQ-OLEM-2016-0465, FRL-10018-57-OMS]

Agency Information Collection Activities; Submission to OMB for Review and Approval; Comment Request; Information Requirements for Boilers and Industrial Furnaces (Renewal)

AGENCY: Environmental Protection Agency (EPA).

ACTION: Notice.

SUMMARY: The Environmental Protection Agency (EPA) has submitted an information collection request (ICR), Information Requirements for Boilers and Industrial Furnaces (EPA ICR Number 1361.18, OMB Control Number 2050-0073) to the Office of Management and Budget (OMB) for review and approval in accordance with the Paperwork Reduction Act. This is a proposed extension of the ICR, which is currently approved through January 31, 2021. Public comments were previously requested via the Federal Register on March 26, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before February 1, 2021.

ADDRESSES: Submit your comments to EPA, referencing Docket ID No. EPA-HQ-OLEM-2016-0465, online using www.regulations.gov (our preferred method), by email to rcra-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Peggy Vyas, Office of Resource Conservation and Recovery (mail code 5303P), Environmental Protection Agency, 1200 Pennsylvania Ave., NW, Washington, DC 20460; telephone number: 703-308-5477; fax number: 703-308-8433; email address: vyas.peggy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA regulates the burning of hazardous waste in boilers, incinerators, and industrial furnaces (BIFs) under 40 CFR parts 63, 264, 265, 266 and 270. This ICR describes the paperwork requirements that apply to the owners and operators of BIFs. This includes the general facility requirements at 40 CFR parts 264 and 265, subparts B thru H; the requirements applicable to BIF units at 40 CFR part 266; and the RCRA Part B permit application and modification requirements at 40 CFR part 270.

Form Numbers: None.

Respondents/affected entities: Business or other for-profit.

Respondent's obligation to respond: Mandatory (per 40 CFR 264, 265, and 270).

Estimated number of respondents: 36 (total).

Frequency of response: On occasion.

Total estimated burden: 39,758 hours per year. Burden is defined at 5 CFR 1320.03(b).

Total estimated cost: $5,499,098 (per year), which includes $0 in annualized capital/startup, and $2,823,120 in annualized operation & maintenance costs.

Changes in the Estimates: There is a decrease of 231,600 hours in the total estimated respondent burden compared with the ICR currently approved by OMB. This decrease is due to a decrease in the size of the universe, from 105 facilities to 36 facilities. This decrease is due partly to closures of boilers in both permitted and interim status facilities, but is mostly due to a clean-up of the data, because previously there had been double-counting of facilities as being both permitted and interim status. The reason for the double-counting was that one facility could have both permitted boilers and non-permitted boilers (i.e., in interim status). Currently, however, there are no boilers in interim status; they are either permitted or they have been closed.

Courtney Kerwin,
Director, Regulatory Support Division.

[FR Doc. 2020-28994 Filed 12-30-20; 8:45 am]

BILLING CODE 6560-50-P